ADVISORY COUNCIL ON HISTORIC PRESERVATION

Extension of Public Comment Period on Draft “Policy Statement Regarding Treatment of Burial Sites, Human Remains and Funerary Objects”

AGENCY: Advisory Council on Historic Preservation.

ACTION: Extension of public comment period.

SUMMARY: The Advisory Council on Historic Preservation has extended the public comment period regarding its previously published draft “Policy Statement Regarding Treatment of Burial Sites, Human Remains and Funerary Objects”.

DATES: Comments must be received on or before July 28, 2006.

ADDRESSES: Address all comments to the Archeology Task Force, Advisory Council on Historic Preservation, 1100 Pennsylvania Avenue, NW., Suite 809, Washington, DC 20004. Fax (202) 606-8672. Comments may also be submitted by electronic mail to: archeology@achp.gov. Please note that all responses become part of the public record once they are submitted.

FOR FURTHER INFORMATION CONTACT: Dr. Tom McCulloch, (202) 606-8505. Further information may be found in the ACHP Web site: http://www.achp.gov.

SUPPLEMENTARY INFORMATION: The Advisory Council on Historic Preservation (ACHP) has extended until July 28, 2006, the public comment period on the draft “Policy Statement Regarding Treatment of Burial Sites, Human Remains and Funerary Objects.”

That draft was published for public comment in the Federal Register on March 14, 2006 (71 FR 13066-13070). That notice is available on the ACHP Web site at http://www.achp.gov.

The ACHP's Task Force on Archeology will use the public input it receives to finalize the draft policy before presenting it to the full ACHP membership for consideration and possible adoption.

Dated: June 28, 2006.
John M. Fowler,
Executive Director.

[FR Doc. 06-5946 Filed 6-30-06; 8:45 am]

BILLING CODE 4310-K6-M